DEPARTMENT OF TRANSPORTATION

Federal Transit Administration

Safety Advisory 24-1 Proterra Bus/Phoenix Motorcars Technical Service Bulletin

AGENCY: Federal Transit Administration (FTA), Department of Transportation (DOT).

ACTION: Notice of safety advisory.

SUMMARY: The Federal Transit Administration (FTA) is issuing Safety Advisory 24-1 to alert transit agencies that Phoenix Motorcars (Phoenix) is voluntarily recalling certain 2020-2021 800V Catalyst and 2020-2022 ZX5 transit buses. FTA is recommending corrective actions to avoid and mitigate the risk to public transportation posed by the safety defect. The FTA's Safety Advisory 24-1, “Proterra Bus/Phoenix Motorcars Safety Recall,” is available in its entirety on the agency's public website. The National Highway Traffic Safety Administration (NHTSA) recall number is 24V-655.

FOR FURTHER INFORMATION CONTACT: Philip Herbert, Senior Accident Investigator for Transit Safety and Oversight, telephone (202) 366-5451 or Philip.Herbert@dot.gov.

Authority: 49 U.S.C. 5329; 49 CFR 1.91 and 670.29.

Veronica Vanterpool,
Deputy Administrator.

[FR Doc. 2024-23865 Filed 10-15-24; 8:45 am]

BILLING CODE 4910-57-P